DEPARTMENT OF LABOR

Employment and Training Administration

[TA-W-60,858]

Delphi Corporation Automotive Holdings Group Including Leased Workers of Bartech Group, Inc., Manpower, Continental Design and Engineering and Securitas Security Services Working On-Site at Delphi, Anderson, IN; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on February 2, 2007, applicable to workers of Delphi Corporation, Automotive Holdings Group, Anderson, Indiana. The notice was published in the Federal Register on February 14, 2007 (72 FR 7087). The certification was amended on May 1, 2007 to include leased workers of Bartech Group, Manpower and Continental Design and Engineering. The notice was published in the Federal Register on May 9, 2007 (72 FR 26426).

At the request of the State agency, the Department reviewed the certification for workers of the subject firm. The workers are engaged in the production of automotive ignition products.

New information shows that leased workers of Securitas Security Services were employed on-site at the Anderson, Indiana location of Delphi Corporation, Automotive Holdings Group. The Department has determined that these workers were sufficiently under the control of the subject firm to be considered leased workers.

Based on these findings, the Department is amending this certification to include leased workers of Securitas Security Services working on-site at the Anderson, Indiana location of the subject firm.

The intent of the Department's certification is to include all workers employed on-site at Delphi Corporation, Automotive Holdings Group, Anderson, Indiana who were adversely affected by a shift in production to Mexico.

The amended notice applicable to TA-W-60,858 is hereby issued as follows:

All workers of Delphi Corporation, Automotive Holdings Group, including leased workers of Bartech Group, Inc., Manpower, Continental Design and Engineering and Securitas Security Services, Anderson, Indiana, who became totally or partially separated from employment on or after January 23, 2006, through February 2, 2009, are eligible to apply for adjustment assistance under section 223 of the Trade Act of 1974, and are also eligible to apply for alternative trade adjustment assistance under section 246 of the Trade Act of 1974.

Signed at Washington, DC, this 6th day of March 2008.
Richard Church,
Certifying Officer, Division of Trade Adjustment Assistance.

[FR Doc. E8-5225 Filed 3-14-08; 8:45 am]

BILLING CODE 4510-FN-P